DEPARTMENT OF COMMERCE

Bureau of Economic Analysis

Agency Information Collection Activities; Submission to the Office of Management and Budget (OMB) for Review and Approval; Comment Request; Services Surveys: BE-29, Annual Survey of Foreign Ocean Carriers' Expenses in the United States

AGENCY: Bureau of Economic Analysis, Commerce.

ACTION: Notice of information collection, request for comment.

SUMMARY: The Department of Commerce, in accordance with the Paperwork Reduction Act of 1995 (PRA), invites the general public and other Federal agencies to comment on proposed and continuing information collections, which helps us assess the impact of our information collection requirements and minimize the public's reporting burden. The purpose of this notice is to allow for 60 days of public comment preceding submission of the collection to OMB.

DATES: To ensure consideration, comments regarding this proposed information collection must be received on or before September 16, 2024.

ADDRESSES: Interested persons are invited to submit written comments to Christopher Stein, Chief, Services Surveys Branch, Bureau of Economic Analysis, by email to christopher.stein@bea.gov or PRAcomments@bea.gov. Please reference OMB Control Number 0608-0012 in the subject line of your comments. Do not submit Confidential Business Information or otherwise sensitive or protected information.

FOR FURTHER INFORMATION CONTACT: Requests for additional information or specific questions related to collection activities should be directed to Christopher Stein, Chief, Services Surveys Branch, Bureau of Economic Analysis; 301-278-9189; or via email at christopher.stein@bea.gov.

SUPPLEMENTARY INFORMATION:

I. Abstract

The Annual Survey of Foreign Ocean Carriers' Expenses in the United States (BE-29) collects data from U.S. agents of foreign ocean carriers that handled 40 or more foreign ocean carrier port calls during the year or had total covered expenses of $250,000 or more during the year, for all foreign ocean vessels handled by the U.S. agent.

The data are needed to monitor U.S. trade in transport services, to analyze the impact of these cross-border services on the U.S. and foreign economies, to compile and improve the U.S. economic accounts, to support U.S. commercial policy on trade in transport services, to conduct trade promotion, and to improve the ability of U.S. businesses to identify and evaluate market opportunities. The data are used in estimating the trade in transport services component of the U.S. international transactions accounts (ITAs) and national income and product accounts (NIPAs).

The Bureau of Economic Analysis (BEA) is proposing one change to the data items collected on the survey. BEA proposes to modify how the data are reported for U.S. expenses of foreign liner (including passenger/cruise) ocean carriers in Part III. Currently, for each carrier, the reporting agent is required to combine all port call activities and report the carrier's combined expenses and shipping weights. BEA has found that consolidating the expenses and shipping weights by liner is difficult for reporters. Importantly, it is not uncommon for reporters to omit some unknown shipping weights during consolidation by carrier, which ultimately yields per-ton rates of expenses that are artificially too high. In contrast, more complete data, including shipping weights, are typically reported for tramp (dry bulk) and tanker (liquid bulk) vessel activities in Party II of the survey.

BEA proposes to collect 15 individual sets of port call expenses and shipping weights in lieu of consolidated reporting of these data for each foreign liner carrier, similar to how data are collected for tramp and tanker vessel activity. The information for foreign liner carriers would be collected on a new Schedule C of the survey that replaces Part III. Additionally, Part II of the survey would be broken out into Schedule A (for tramp vessels) and Schedule B (for tanker vessels), to collect tramp and tanker separately, but the instructions for these responses will not change.

BEA estimates there will be no change in the average number of burden hours per response because the data are already collected as a consolidation of port calls, for all liners represented by the reporting agent. Reporters would only be required to provide 15 individual port calls across all carriers they represent, which would simplify the reporting in this section of the survey.

BEA does not plan to change the exemption levels used for the current annual survey. BEA estimates there will be no change in the average number of burden hours per response. The language in the instructions and definitions will be reviewed and adjusted as necessary to clarify survey requirements.

II. Method of Collection

BEA contacts potential respondents by mail at the end of each year. Respondents would be required to file the completed BE-29 forms within 45 days after the end of each calendar year. Reports would be required from U.S. agents of foreign ocean carriers that handled 40 or more foreign ocean carrier port calls during the year or had covered expenses of $250,000 or more during the year for all foreign ocean vessels handled by the U.S. agent. Entities required to report will be contacted individually by BEA. Entities not contacted by BEA have no reporting responsibilities.

BEA offers its electronic filing option, the eFile system, for use in reporting on Form BE-29. For more information about eFile, go to www.bea.gov/efile. In addition, BEA posts all its survey forms and reporting instructions on its website, www.bea.gov/ssb. These may be downloaded, completed, printed, and submitted via fax or mail.

III. Data

OMB Control Number: 0608-0012.

Form Number(s): BE-29.

Type of Review: Regular submission.

Affected Public: Business or other for-profit organizations.

Estimated Number of Respondents: 80 annually (70 reporting mandatory data, and 10 that would file exemption claims or voluntary responses).

Estimated Time per Response: 3 hours is the average for those reporting mandatory data and one hour is the average for those filing an exemption claim or voluntary responses. Hours may vary considerably among respondents because of differences in company size and complexity.

Estimated Total Annual Burden Hours: 220.

Estimated Total Annual Cost to Public: $0.

Respondent's Obligation: Mandatory.

Legal Authority: International Investment and Trade in Services Survey Act (Pub. L. 94-472, 22 U.S.C. 3101-3108, as amended).

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-15755 Filed 7-17-24; 8:45 am]

BILLING CODE 3510-06-P